DEPARTMENT OF EDUCATION

Smaller Learning Communities Program

AGENCY: Office of Vocational and Adult Education, Department of Education.

ACTION: Notice of final priority, requirements, definitions, and selection criteria for fiscal year (FY) 2004 and subsequent years' funds.

SUMMARY: The Assistant Secretary for Vocational and Adult Education announces a priority, requirements, definitions, and selection criteria under the Smaller Learning Communities (SLC) program. The Assistant Secretary will use this priority, requirements, definitions, and selection criteria for a competition using fiscal year (FY) 2004 funds and may use them in later years.

We intend the priority, requirements, definitions, and selection criteria to further the purpose of the SLC program, which is to promote academic achievement through the creation or expansion of small, safe, and successful learning environments in large public high schools.

DATES: The final priority, requirements, definitions, and selection criteria are effective May 31, 2005.

FOR FURTHER INFORMATION CONTACT: Deborah Williams, U.S. Department of Education, OVAE, 400 Maryland Avenue, SW., Potomac Center Plaza, room 11064, Washington, DC 20202-7241. Telephone: (202) 245-7770 or via Internet: deborah.williams@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Background

The Smaller Learning Communities program is authorized under Title V, Part D, subpart 4 of the Elementary and Secondary Education Act of 1965 (20 U.S.C. 7249), as amended by Public Law 107-110, the No Child Left Behind Act of 2001 (ESEA).

A strategy that may hold promise for improving the academic performance of our Nation's young people is the establishment of smaller learning communities as components of comprehensive high school improvement plans. The problems of large high schools and the related question of optimal school size have been debated for the last 40 years and are of growing interest today.

While the research on school size to date has been largely nonexperimental, some evidence suggests that smaller schools may have advantages over larger schools. Research suggests that the positive outcomes associated with smaller schools stem from the schools' ability to create close, personal environments in which teachers can work collaboratively, with each other and with a small set of students, to challenge students and support learning. A variety of structures and operational strategies are thought to provide important supports for smaller learning environments; some data suggest that these approaches offer substantial advantages to both teachers and students (Ziegler 1993; Caroll 1994).

Structural changes for recasting large schools as a set of smaller learning communities (SLCs) are described in the Conference Report for the Consolidated Appropriations Act, 2000 (Pub. L. 106-113, H.R. Conference Report No. 106-479, at 1240 (1999)). Such methods include establishing small learning clusters, “houses,” career academies, magnet programs, and schools-within-a-school. Other activities may include freshman transition activities, advisory and adult advocate systems, academic teaming, multi-year groupings, “extra help” or accelerated learning options for students or groups of students entering below grade level, and other innovations designed to create a more personalized high school experience for students. These structural changes and personalization strategies, by themselves, are not likely to improve student academic achievement. They might, however, create valuable opportunities to improve the quality of instruction and curriculum and to provide the individualized attention and academic support that all students need to excel academically. The SLC program encourages local educational agencies (LEAs) to set higher academic expectations for all of their students and to implement reforms that will provide the effective instruction and personalized academic and social support students need to meet those expectations.

The Department's ongoing efforts to ensure improved outcomes for students enrolled in programs funded by the SLC program are reflected in this notice. Many of the changes represent an effort to provide grantees with sufficient time and resources to carry out their plans for raising academic achievement through comprehensive structural and instructional reforms. Toward that end, we are extending the project period from three to five years. In addition, we are increasing the award amounts for individual grants.

In an attempt to facilitate the application process, encourage more LEAs to apply, and raise the quality of proposals received, we have streamlined the number of selection criteria from the previous competition. The priority, requirements, definitions, and selection criteria in this notice continue to focus on making the curriculum more rigorous and improving instruction through SLC structures and strategies.

We published a notice of proposed priority, requirements, definitions, and selection criteria for fiscal year (FY) 2004 and subsequent years' funds in the Federal Register on February 25, 2005 (70 FR 9290) (NPP). This notice of final priority, requirements, definitions, and selection criteria contains several changes from the NPP. We fully explain these changes in the following section.

Analysis of Comments and Changes

In response to our invitation in the NPP, 17 parties submitted comments. An analysis of the comments and of any changes in the priority, requirements, definitions, and selection criteria since publication of the NPP.

Generally, we do not address technical and other minor changes—and suggested changes the law does not authorize us to make under the applicable statutory authority.

Comments: A number of commenters were concerned that grantees with SLC projects ending this year are at a disadvantage, since they are not eligible to apply for an additional grant.

Discussion: As we proposed in the NPP, recipients of the first cohort of grants awarded in the SLC program in 2000 are eligible to apply for a grant. Based on public comments, however, we have determined that an LEA may apply on behalf of schools funded in the second cohort of grants awarded in 2001 under the SLC program as well. The requirements for improved academic achievement, continuous data collection and analysis to inform decision-making and program improvement, and third-party external evaluation of implementation are among the significant changes that are included in the program requirements starting with implementation grants awarded in 2003 (cohort 3) and continuing for grants awarded in 2004 (cohort 4). Accordingly, we do not think these grantees are at a disadvantage.

Change: We have added language in the Previous Grantees section of the notice to provide that recipients of grants in the second SLC cohort are eligible to apply for a grant under the conditions set forth in this notice. After internal review, we also have deleted the requirement that previous grantees include a copy of their final performance report in their applications.

Comments: One commenter suggested that we add a “readiness criterion” to the selection criteria that would document support from stakeholders outside of the school(s).

Discussion: We agree that the commitment of teachers, other school personnel, parents, students, and other community stakeholders is required for effective implementation of new or expansion of existing SLCs. The factors listed under the criterion Foundation for Implementation specifically address this requirement for continued involvement of all stakeholders in the planning stages and throughout the implementation process.

Changes: None.

Comments: Several commenters sought clarification regarding our proposal to prohibit a grantee from using year 1 of the grant period for planning purposes. One commenter recommended reinstatement of planning grants for $50,000 or $100,000 and a requirement that a grantee begin its implementation plan at the end of one year.

Discussion: When the SLC program was established, few resources were available regarding effective SLCs and efficient implementation practices. Accordingly, in the earlier years of this program, planning grants were awarded to provide funding to enable grantees to convene stakeholders for planning, to research SLCs, to visit various sites, and to participate in development opportunities as they decided whether they would apply for an implementation grant or not. Currently there are more readily available resources, planning tools, and SLC findings from research and practice that may inform the planning in schools and districts for the implementation process so that implementation can take place earlier. We do expect some new SLC implementation activities or expansion of some existing SLC to be completed during the first year of the grant; full implementation, however, is not expected in the first year of the project. As required in the selection criterion, Quality of the Management Plan, the application must include clearly defined responsibilities and detailed timelines and milestones for accomplishing project tasks for the project performance period.

Changes: We have added language to the Types of Grants section under Application Requirements to allow grantees to use the first year, if necessary, for some planning activities, and for investigation and piloting of SLC structural changes, strategies, services, more rigorous course offerings, and interventions that may be implemented in the SLCs as part of their whole-school reform initiative.

Comments: One commenter recommended that districts be allowed to apply for a grant on behalf of high schools under construction.

Discussion: Schools under construction do not have actual student enrollments. Consistent with language in the Conference Report for Consolidated Appropriations Act, 2004 (Pub. L. 108-199), we have decided that to be considered an eligible large high school for purposes of this program, the school must have an actual enrollment of 1,000 or more students at the time of application.

Changes: None.

Comments: One commenter recommended that we consider citing “highly specified reform models” in the selection criterion, Quality of Project Design.

Discussion: There are many resources available for use by applicants as they decide what reform models will work best in their specific environment. Resources are available at http://www.ed.gov/programs/slcp/resources.html and many other Web sites that may inform decision-making with regard to models and practices to use as the proposed SLC project is designed. Applicants should investigate various research-based strategies, services, and interventions that are likely to improve overall student achievements and program outcomes. Thus, a citation of “highly specified reform models” in the selection criteria is unnecessary.

Changes: None.

Comments: One commenter recommended that the Department establish the performance target for the graduation rate performance indicator and give preference to applicants with the highest graduation rate in a standard number of years.

Discussion: The performance indicators and annual performance objectives included in the grant application are established by each applicant and are based upon factors at each school included in the grant application. It is not possible for us to set a target for graduation outcomes that would be realistic for all potential applicants. Further, there are no competitive preference priorities established for this competition.

Changes: None.

Comments: One commenter requested clarification regarding the award ranges and whether the recommendations were for one year or the full period of the grant.

Discussion: We agree with the commenter that potential applicants may be confused about how to calculate the amount of award they are requesting.

Changes: We have added language in the Budget Information for Determining Award section under Application Requirements that makes it clear that the award recommendations are for the 60-month grant period.

Comments: One commenter requested clarification regarding group applications.

Discussion: We realize it may be beneficial for school districts to form a consortium for development and implementation of an SLC project. Per the Education Department General Administrative Regulations (EDGAR), applicants may apply as a consortium. The regulations, at 34 CFR 75.127-72.129, set out the details of group applications. All members of a consortium must be eligible entities. The applicant is considered the grantee and is legally responsible for the grant. The consortium members must enter into an agreement that binds each member to every statement and assurance made by the applicant in the application, and the applicant must submit the agreement with its application.

Changes: None.

Comments: Two commenters requested clarification regarding the determination of “high-risk” status for grantees.

Discussion: Designation of a grantee as “high-risk” is based on factors that arise during the grant or may be based on past grant performance results. The designation is made only after measures have been taken by the Program Officer to help the grantee remedy any deficiencies. Any such designation would be done in accordance with 34 CFR 80.12 of EDGAR.

Changes: None.

Note: This notice of final priority, requirements, definitions, and selection criteria does not solicit applications. In any year in which we choose to use this priority, requirements, definitions, and selection criteria, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Priority: Helping All Students To Succeed in Rigorous Academic Courses

This priority supports projects to create or expand SLCs that will implement a coherent set of strategies and interventions that are designed to ensure that all students who enter high school with reading/language arts or mathematics skills that are significantly below grade level “catch up” quickly so that, by no later than the end of the 10th grade, they have acquired the reading/language arts and mathematics skills they need to participate successfully in rigorous academic courses that will equip them with the knowledge and skills necessary to transition successfully to postsecondary education, apprenticeships, or advanced training.

These accelerated learning strategies and interventions must:

(1) Be grounded in the findings of scientifically based and other rigorous research;

(2) Include the use of age-appropriate instructional materials and teaching and learning strategies;

(3) Provide additional instruction and academic support during the regular school day, which may be supplemented by instruction that is provided before or after school, on weekends, and at other times when school is not in session; and

(4) Provide sustained professional development and ongoing support for teachers and other personnel who are responsible for delivering instruction.

Application Requirements

The Assistant Secretary announces the following application requirements for this SLC competition. These requirements are in addition to the content that all SLC grant applicants must include in their applications as required by the program statute in title V, part D, subpart 4, section 5441(b) of the ESEA. LEAs, including schools funded by the Bureau of Indian Affairs and educational service agencies, applying on behalf of large public high schools, are eligible to apply for a grant. A discussion of each application requirement follows:

Eligibility

To be considered for funding, LEAs must identify in their applications the name(s) of the eligible large high school(s) and the number of students enrolled in each school. A large high school is defined as one having grades 11 and 12, with 1,000 or more students enrolled in grades 9 and above. Enrollment figures must be based upon data from the current school year or data from the most recently completed school year. We will not accept applications from LEAs applying on behalf of schools that are being constructed and do not have an active student enrollment at the time of application. LEAs may apply on behalf of no more than 10 schools.

School Report Cards

We require that LEAs provide, for each school included in the application, the most recent “report card” produced by the State or the LEA to inform the public about the characteristics of the school and its students, including information about student academic achievement and other student outcomes. These “report cards” must include, at a minimum, the following information that LEAs are required to report for each school under section 1111(h)(2)(B)(ii) of the ESEA: (1) Whether the school has been identified for school improvement and (2) information that shows how the academic assessments and other indicators of adequate yearly progress compare to those indicators for students in the LEA as a whole and also shows the performance of the school's students on statewide assessments.

Types of Grants

We will award implementation grants to applicants to support the creation or expansion of an SLC or SLCs within each targeted high school. We will not fund any planning grants this year; however, full implementation is not expected in the first year of the grant. In the first year of the implementation grant, grantees will be allowed to continue planning activities including, but not limited to, (a) convening stakeholders who are actively involved in the continuing development of the new SLCs or expansion of SLCs at the targeted schools; (b) investigating and testing new structures and strategies to be implemented throughout the performance period; (c) piloting more rigorous academic courses and requirements to better prepare students for transition to postsecondary education; (d) surveying staff to inform the plans for high quality and sustained professional development throughout the implementation process; (e) conducting surveys of students, staff, and community stakeholders to inform continuous improvement throughout the implementation process; and (f) collecting and analyzing data to inform the initiatives planned for the implementation project.

Grants will be awarded for a period up to 60 months. We require that applicants provide detailed, yearly budget information for the total grant period requested. Understanding the unique complexities of implementing a program that affects a school's organization, physical design, curriculum, instruction, and preparation of teachers, we will award the entire grant amount at the time of the initial award. We also require that applicants provide detailed yearly plans, including benchmarks, for the total grant period requested.

Consortium Applications and Educational Service Agencies

In an effort to encourage systemic, district-level reform efforts, we permit an individual LEA to submit only one grant application in a competition, specifying in each application which high schools the LEA intends to fund.

In addition, we require that an LEA applying for a grant under this competition apply only on behalf of a high school or high schools for which it has governing authority, unless the LEA is an educational service agency that includes in its application evidence that the entity that has governing authority over the eligible high school supports the application. An LEA, however, may form a consortium with another LEA and submit a joint application for funds. The consortium must follow the procedures for group applications described in 34 CFR 75.127-75.129 in the Education Department General Administrative Regulations (EDGAR).

An LEA is eligible for only one grant whether the LEA applies independently or as part of a consortium.

Budget Information for Determination of Award

LEAs may receive, on behalf of a single school, up to $1,175,000, depending upon the size of the school. This award is for the full 60-month project period. LEAs applying on behalf of a group of eligible schools could receive up to $11,750,000 per grant. To ensure that sufficient funds are available to support SLC activities, LEAs may not include more than 10 schools in a single application for a grant.

The following chart provides the ranges of awards per high school size for 60-month SLC grants:

The actual size of awards will be based on a number of factors. These factors include the scope, quality, and comprehensiveness of the proposed project and the range of awards indicated in the application.

Applications that request more funds than the maximum amounts specified for any school or for the total grant will not be read as part of the regular application process. However, if after the Secretary selects applications to be funded, it appears that additional funds remain available, the Secretary may choose to read those additional applications that requested funds exceeding the maximum amounts specified. If the Secretary chooses to fund any of those additional applications, applicants will be required to work with the Department to revise their proposed budgets to fit within the appropriate funding range.

Student Placement

We require applicants for SLC grants to include a description of how students will be selected or placed in an SLC and an assurance that students will not be placed according to ability or any other measure, but will be placed at random or by student/parent choice and not pursuant to testing or other judgments.

Including All Students

We require applicants for grants to create or expand an SLC project that will include every student within the school by no later than the end of the fifth school year of implementation. Elsewhere in this notice, we define an SLC as an environment in which a group of teachers and other adults within the school knows the needs, interests, and aspirations of each student well, closely monitors each student's progress, and provides the academic and other support each student needs to succeed.

Performance Indicators

We require applicants to identify in their application specific performance indicators and annual performance objectives for each of these indicators. Specifically, we require applicants to use the following performance indicators to measure the progress of each school:

(1) The percentage of students who score at the proficient and advanced levels on the reading/language arts and mathematics assessments used by the State to determine whether a school has made adequate yearly progress under part A of title I of the ESEA, as well as these percentages disaggregated by subject matter and the following subgroups:

(A) Major racial and ethnic groups;

(B) Students with disabilities;

(C) Students with limited English proficiency; and

(D) Economically disadvantaged students.

(2) The school's graduation rate, as defined in the State's approved accountability plan for part A of title I of the ESEA;

(3) The percentage of graduates who enroll in postsecondary education, apprenticeships, or advanced training for the semester following graduation;

(4) The percentage of graduates who are employed by the end of the first quarter after they graduate (e.g., for students who graduate in May or June, this would be September 30);

(5) Other appropriate indicators the LEA may choose to identify in its application, such as rates of average daily attendance and year-to-year retention; achievement and gains in English proficiency of limited English proficient students; the incidence of school violence, drug and alcohol use, and disciplinary actions; or the percentage of students completing advanced placement courses and the rate of passing advanced placement tests (such as Advanced Placement and International Baccalaureate) and courses for college credit.

Applicants are required to include in their applications baseline data for each of these indicators and identify performance objectives for each year of the project period. We further require recipients of grants to report annually on the extent to which each school achieves its performance objectives for each indicator during the preceding school year. We require grantees to include in these reports comparable data, if available, for the preceding three school years so that trends in performance will be more apparent.

Evaluation

We require each applicant to provide assurances that it will support an evaluation of the project that provides information to the project director and school personnel, and that will be useful in gauging the project's progress and in identifying areas for improvement. Each evaluation must include an annual report for each of the first four years of the project period and a final report that would be completed at the end of the fifth year of implementation and that will include information on implementation during the fifth year as well as information on the implementation of the project across the entire project period. We require grantees to submit each of these reports to the Department.

In addition, we require that the evaluation be conducted by an independent third party, selected by the applicant, whose role in the project is limited to conducting the evaluation.

High-Risk Status and Other Enforcement Mechanisms

Requirements listed in this notice are material requirements. Failure to comply with any requirement or with any elements of the grantee's application would subject the grantee to administrative action, including but not limited to designation as a “high-risk” grantee, the imposition of special conditions, or termination of the grant. Circumstances that might cause the Department to take such action include, but are not limited to: the grantee showing a decline in student achievement after two years of implementation of the grant; the grantee's failure to make substantial progress in completing the milestones outlined in the management plan included in the application; and the grantee's expenditure of funds in a manner that is inconsistent with the budget as submitted in the application.

Required Meetings Sponsored by the Department

Applicants must set aside adequate funds within their proposed budget to send their project director to a two-day project directors' meeting in Washington, DC, and to send a team of five key staff members, including their external evaluator, to attend a two-and-a-half-day Regional Institute. The Department will host both meetings.

Previous Grantees

An LEA that was awarded an implementation grant on behalf of a school under the original SLC program competition held in 2000 (Cohort 1) may apply on behalf of the school for a second SLC grant under the terms set forth in this notice. An LEA that was awarded an implementation grant on behalf of a school under the competition held in 2002 (Cohort 2) may apply on behalf of the school for a second grant under the terms set forth in this notice. LEAs would not be able to apply for funding on behalf of schools that received an SLC implementation grant under the competitions held in 2003 (Cohort 3) and 2004 (Cohort 4).

Definitions

In addition to the definitions set out in the authorizing statute and 34 CFR 77.1, the following definitions also apply to this program:

BIA School means a school operated or supported by the Bureau of Indian Affairs.

Large High School means an entity that includes grades 11 and 12 and has an enrollment of 1,000 or more students in grades 9 and above.

Smaller Learning Community (SLC) means an environment in which a core group of teachers and other adults within the school knows the needs, interests, and aspirations of each student well, closely monitors each student's progress, and provides the academic and other support each student needs to succeed.

Selection Criteria

The following selection criteria will be used to evaluate applications for new grants under this program. We may apply these selection criteria to any SLC competition in the future.

Note: The maximum score for a grant under this program is 100 points. The points or weights assigned to each criterion and sub-criterion are indicated in parentheses.

Need for the Project (10 Points)

In determining the need for the proposed project, we consider the extent to which the applicant will:

(1) Assist schools that have the greatest need for assistance, as indicated by, relative to other high schools within the State, one or more of the factors below:

(A) Student performance on the academic assessments in reading/language arts and mathematics administered by the State under part A, Title I of the ESEA, including gaps in the performance of all students and that of student subgroups, such as economically disadvantaged students, students from major racial and ethnic groups, students with disabilities, or students with limited English proficiency.

(B) The school's dropout rate and gaps in the graduation rate between all students and student subgroups.

(C) Disciplinary actions.

(D) The percentage of graduates who enroll in postsecondary education, apprenticeships, or advanced training in the semester following graduation, and gaps between all students and student subgroups.

Foundation for Implementation (20 Points)

In determining the quality of the implementation plan for the proposed project, we consider the extent to which:

(1)(5 points) Teachers and administrators within each school support the proposed project and have been and will continue to be involved in its planning and development, including, particularly, those teachers who will be directly affected by the proposed project.

(2)(5 points) Parents, students, and other community stakeholders support the proposed project and have been and will continue to be involved in its planning and development.

(3)(5 points) The proposed project is consistent with, and will advance, State and local initiatives to increase student achievement and narrow gaps in achievement between all students and student subgroups.

(4)(5 points) The applicant demonstrates that it has carried out sufficient planning and preparatory activities to enable it to begin to implement the proposed project at the beginning of the school year immediately following receipt of an award.

Quality of the Project Design (30 Points)

In determining the quality of the project design for the SLC project, we consider the extent to which—

(1)(5 points) The applicant will implement or expand strategies, new organizational structures, or other changes in practice that are likely to create an environment in which a core group of teachers and other adults within the school knows the needs, interests, and aspirations of each student well, closely monitors each student's progress, and provides the academic and other support each student needs to succeed;

(2)(5 points) The applicant proposes research-based strategies that are likely to improve overall student achievement and other outcomes (including graduation rates and enrollment in postsecondary education), narrow any gaps in achievement between all students and student subgroups, and address the particular needs identified by the school under the paragraph titled Need for the Project, such as—

(A) More rigorous academic curriculum for all students and the provision of academic support to struggling students who need assistance to master more challenging academic content;

(B) More intensive and individualized educational counseling and career and college guidance, provided through mentoring, teacher advisories, adult advocates, or other means;

(C) Strategies designed to increase average daily attendance, increase the percentage of students who transition from the 9th to 10th grade, and improve the graduation rate; and

(D) Expanding opportunities for students to participate in advanced placement courses and other academic and technical courses that offer both high school and postsecondary credit.

(3)(5 points) The applicant will implement accelerated learning strategies and interventions that will assist students who enter the school with reading/language or mathematics skills that are significantly below grade level and that:

(A) Are designed to equip participating students with grade-level reading/language arts and mathematics skills by no later than the end of the 10th grade;

(B) Are grounded in scientifically based research;

(C) Include the use of age-appropriate instructional materials and teaching and learning strategies;

(D) Provide additional instructional and academic support during the regular school day, which may be supplemented by instruction that is provided before or after school, on weekends, and at other times when school is not in session;

(E) Will be delivered with sufficient intensity to improve the reading/language arts or math skills, as appropriate, of participating students; and

(F) Include sustained professional development and ongoing support for teachers and other personnel who are responsible for delivering instruction.

(4)(5 points) The applicant will provide high-quality professional development throughout the project period that advances the understanding of teachers, administrators, and other school staff of effective, research-based instructional strategies for improving the academic achievement of students, including, particularly, students with academic skills that are significantly below grade level, and provide the knowledge and skills those staff need to participate effectively in the development, expansion, or implementation of an SLC.

(5)(5 points) The proposed project fits into a comprehensive district high school improvement strategy to increase the academic achievement of all district high school students, reduce gaps between the achievement of all students and student subgroups, and prepare students to enter postsecondary education or the workforce.

(6)(5 points) The proposed project is part of a cohesive plan that uses funds provided under the ESEA, the Carl D. Perkins Vocational and Technical Education Act, or other Federal programs, as well as local, State, and private funds sufficient to ensure continuation of efforts after Federal support ends.

Quality of the Management Plan (20 Points)

In determining the quality of the management plan for the proposed project, we consider the following factors:

(1)(5 points) The adequacy of the proposed management plan to achieve the objectives of the proposed project on time and within budget, including clearly defined responsibilities and detailed timelines and milestones for accomplishing project tasks;

(2)(5 points) The extent to which time commitments of the project director and other key personnel are appropriate and adequate to implement the SLC project effectively.

(3)(5 points) The qualifications, including relevant training and experience, of the project director and other key personnel; and

(4)(5 points) The adequacy of resources, including the extent to which the budget is adequate and costs are directly related to the objectives and SLC activities.

Quality of the SLC Project Evaluation (20 Points)

In determining the quality of the proposed project evaluation conducted by an independent, third party evaluator, we consider the following factors—

(1)(5 points) The extent to which the methods of evaluation are thorough, feasible, and appropriate to the goals, objectives, and outcomes of the proposed SLC project;

(2)(5 points) The extent to which the evaluation will collect and report accurate qualitative and quantitative data that will be useful in assessing the success and progress of implementation, including, at a minimum—

(A) Measures of student academic achievement that provide data for the performance indicators identified in the application, including results that are disaggregated for economically disadvantaged students, students from major racial and ethnic groups, students with disabilities, students with limited English proficiency, and other subgroups identified by the applicant; and

(B) Other measures identified by the applicant in the application as performance indicators;

(3)(5 points) The extent to which the methods of evaluation will provide timely and regular feedback to the LEA and the school on the success and progress of implementation and identify areas for needed improvement.

(4)(5 points) The qualifications and relevant training and experience of the independent evaluator.

Executive Order 12866

This notice of final priority, requirements, definitions, and selection criteria has been reviewed in accordance with Executive Order 12866. Under the terms of the order, we have assessed the potential costs and benefits of this regulatory action.

The potential costs associated with this notice of final priority, requirements, definitions, and selection criteria are those resulting from statutory requirements and those we have determined as necessary for administering this program effectively and efficiently.

In assessing the potential costs and benefits—both quantitative and qualitative—of this notice of final priority, requirements, definitions, and selection criteria, we have determined that the benefits of the final priority, requirements, definitions, and selection criteria justify the costs.

We have also determined that this regulatory action does not unduly interfere with State, local, and tribal governments in the exercise of their governmental functions.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7249.

(Catalog of Federal Domestic Assistance Number 84.215L, Smaller Learning Communities Program.)
Dated: April 22, 2005.
Susan Sclafani,
Assistant Secretary for Vocational and Adult Education.

[FR Doc. 05-8514 Filed 4-27-05; 8:45 am]

BILLING CODE 4000-01-P